DEPARTMENT OF HEALTH AND HUMAN SERVICES

Centers for Disease Control and Prevention

[60 Day-11-0672]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call 404-639-5960 or send comments to Carol E. Walker, CDC Acting Reports Clearance Officer, 1600 Clifton Road, MS D-74, Atlanta, GA 30333 or send an e-mail to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

Indicators of the Performance of Local, State, Territorial, and Tribal Education Agencies in HIV Prevention, Coordinated School Health Program, and Asthma Management Activities for Adolescent and School Health Programs (OMB No. 0920-0672, exp. 6/30/2011)—Revision—Division of Adolescent and School Health, National Center for Chronic Disease Prevention and Health Promotion (NCCDPHP), Centers for Disease Control and Prevention (CDC).

Background and Brief Description

The Division of Adolescent and School Health (DASH), CDC, supports HIV prevention activities, coordinated school health program (CSHP) activities, and asthma management activities conducted by local education agencies (LEA), state education agencies (SEA), territorial education agencies (TEA), and tribal governments (TG). DASH currently collects information about these activities under OMB control number 0920-0672 (exp. 6/30/2011). Because there is currently no other standardized annual reporting process for DASH-funded HIV prevention activities, CSHP activities, and asthma management activities, DASH seeks OMB approval to continue the information collection for three years (FY2010—FY2012 data). The previously approved questionnaires will be used to collect FY2010 data. Minor changes to the questionnaires will be implemented for the FY2011 and FY2012 data collections.

Information collection consists of four Web-based questionnaires that correspond to specific funding sources within DASH. Two questionnaires pertain to HIV-prevention program activities among LEAs and SEAs/TEAs/TGs, the third questionnaire pertains to CSHP activities among SEAs, and the fourth questionnaire pertains to asthma management activities among LEAs. There are no changes to the estimated burden per response for any of the questionnaires.

The two HIV questionnaires include questions about planning and improving projects; development and distribution of materials, professional development and individualized technical assistance on school policies; development and distribution of materials, professional development and individualized technical assistance on education curricula and instruction; collaboration with external partners; reducing disparities among populations of youth at disproportionate risk; and information about additional program activities.

The CSHP/PANT questionnaire also asks the questions above, but focuses on physical activity, healthy eating, and tobacco-use prevention activities. It includes additional questions about joint activities of the State Education Agency and State Health Agency (SHA); activities of the CSHP state-wide coalition; and development and distribution of materials, professional development and individualized technical assistance on health promotion programs and environmental approaches to Physical Activity, Nutrition and Tobacco (PANT).

The asthma management questionnaire includes questions about planning and improving projects; joint activities of the Local Education Agency and Local Health Agency (LHA); policies; asthma-related education; health promotion and environmental approaches to asthma management; provision of health services; collaboration with external partners; reducing disparities among populations of youth at disproportionate risk; and information about additional program activities. The sections on policies, asthma-related education, health services and health promotion and environmental approaches to asthma management include questions that address the development and distribution of materials, professional development, and individualized technical assistance.

Information gathered will: (1) Provide standardized information about how HIV prevention, CSHP, and asthma management funds are used by LEAs, SEAs, TEAs, and TGs; (2) assess the extent to which programmatic adjustments are indicated; (3) provide descriptive and process information about program activities; and (4) provide greater accountability for use of public funds.

Participation in the information collection is required for programs that receive funding through DASH. Each Web-based questionnaire will be completed annually by the program coordinator for the activity. There are no costs to respondents other than their time.

Estimated Annualized Burden Hours
Type of respondents | Form name | Number of respondents | Number of responses per respondent | Avg. burden per response (in hrs) | Total burden (in hrs)
Local Education Agency Officials | Indicators for School Health Programs: HIV Prevention (LEA) | 16 | 1 | 7 | 112
| Indicators for School Health Programs: Asthma Management (LEA) | 10 | 1 | 7 | 70
State and Territorial Education Agency and Tribal Government Officials | Indicators for School Health Programs: HIV Prevention (SEA) | 57 | 1 | 7 | 399
| Indicators for School Health Programs: Coordinated School Health Programs | 23 | 1 | 10 | 230
Total |  |  |  |  | 811

Dated: January 5, 2011.
Carol E. Walker,
Acting Reports Clearance Officer, Centers for Disease Control and Prevention.

[FR Doc. 2011-328 Filed 1-10-11; 8:45 am]

BILLING CODE 4163-18-P